DEPARTMENT OF LABOR

Employment and Training Administration

[TA-W-37,182]

Wolverine Tube, Inc., Roxboro, North Carolina; Notice of Termination of Investigation

Pursuant to section 221 of the Trade Act of 1974, an investigation was initiated on December 20, 1999 in response to a worker petition which was filed on the same date on behalf of workers at Wolverine Tube, Inc., Roxboro, North Carolina.

The petitioner has requested that the petition be withdrawn. Consequently, further investigation in this case would serve no purpose, and the investigation has been terminated.

Signed in Washington, DC, this 2nd day of February 2000.
Grant D. Beale,
Program Manager, Office of Trade Adjustment Assistance.

[FR Doc. 00-3499 Filed 2-14-00; 8:45 am]

BILLING CODE 4510-30-M